DEPARTMENT OF JUSTICE

Antitrust Division

Notice Pursuant to the National Cooperative Research and Production Act of 1993—Information Warfare Research Project Consortium

Notice is hereby given that, on July 12, 2019, pursuant to Section 6(a) of the National Cooperative Research and Production Act of 1993, 15 U.S.C. 4301 et seq. (“the Act”), Information Warfare Research Project Consortium (“IWRP”) has filed written notifications simultaneously with the Attorney General and the Federal Trade Commission disclosing changes in its membership. The notifications were filed for the purpose of extending the Act's provisions limiting the recovery of antitrust plaintiffs to actual damages under specified circumstances. Specifically, Abside Networks, Inc., Acton, MA; Acuity Systems LLC, Herndon, VA; Advanced Systems Supportability Engineering Technologies & Tools (ASSETT), Manassas, VA; Advantaged Solutions Inc., Washington, DC; Agema Technology Inc., Mission Viejo, CA; Alamo City Engineering Services Inc., San Antonio, TX; Alion Science and Technology Corporation, McLean, VA; Alpha Proto, Casselberry, FL; Amazon Web Services, Inc., Seattle, WA; ANSOL, Inc., San Diego, CA; Anthem Engineering, LLC, Elkridge, MD; Ardalyst Federal, LLC, Annapolis, MD; AT&T Corp., Oakton, VA; ARKS Enterprises Inc., Virginia Beach, VA; At The Table Productions, Santa Monica, CA; Atlas Executive Consulting LLC, North Charleston, SC; Big Metal Additive Inc., Evergreen, CO; BMC Software Inc., McLean, VA; Carahsoft Technology Corporation, Reston, VA; Cask Technologies, LLC, San Diego, CA; CDW Government LLC, Vernon Hills, IL; ClearShark LLC, Hanover, MD; Chesapeake Technology International Corp., California, MD; Clemson University, Clemson, SC; CogniTech Corporation, Salt Lake City, UT; ColdQuanta Inc., Boulder, CO; CommTech Systems Inc., El Cajon, CA; Computer Technologies Consultants, Inc., McLean, VA; Converged Security Solutions LLC (CSS), Reston, VA; CORASCLOUD Inc. dba CORAS Inc., McLean, VA; Cypher Analytics Inc., San Diego, CA; DUST Identity, Inc., Needham, MA; Effecture LLC, San Diego, CA; ENT Technologies Inc., San Diego, CA; Enterprise Information Services, Inc., Vienna, VA; Epiq Design Solutions Inc., Schaumburg, IL; FCN Inc., Rockville, MD; Fenix Group Inc., Chantilly, VA; Forcepoint Federal LLC, Herndon, VA; G2IT LLC, Annapolis, MD; Galorath Federal Incorporated, Alexandria, VA; Gemtek Technology Inc. DBA Connect Pro, Walnut, CA; Global Defense Inc. (GDI), Arlington, VA; Golden Tech Systems Inc., Waxhaw, NC; Harris Corporation, Government Communications, Systems Wireless Product Group, Palm Bay, FL; Hewlett Packard Enterprise Company (HPE), Reston, VA; HII Technical Solutions Corporation (Huntington Ingalls Industries), Virginia Beach, VA; Hitachi Vantara Federal Corporation, Reston, VA; Identify3D, Inc., San Francisco, CA; ICE ITS INC., Ashburn, VA; Imagine Believe Realize, Orlando, FL; Immersion CyKor, LLC, Annapolis, MD; immixGroups EC America Inc., McLean, VA; Impact Resources, Inc. dba IR Technologies, Bristow, VA; IMPRES Technology Solutions Inc., Santa Fe Springs, CA; Infor (US) Inc., Alpharetta, GA; Innovative Defense Technologies, Arlington, VA; Ionic Security Inc., Atlanta, GA; IQVIA Government Solutions Inc., Falls Church, VA; Iron Bow Technologies, LLC, Herndon, VA; ISHPI Information Technologies Inc., Mount Pleasant, SC; ITT Enidine Inc., Orchard Park, NY; iXBlue Defense Systems, Inc., Lincoln, RI; Jasper Solutions Inc., Huntington Station, NY; Knight Sky LLC, Frederick, MD; KPMG LLP Federal Services, McLean, VA; Kudu Dynamics, LLC, Chantilly, VA; L2NL, LLC, Charleston, SC; L3 Telemetry and RF Products Division, San Diego, CA; LinQuest Corporation, Los Angeles, CA; Lockheed Martin Corporation, Littleton, CO; Louisiana Technology Group Inc. (LATG), New Orleans, LA; MacAulay-Brown, Inc., Dayton, OH; Main Sail LLC, Cleveland, OH; Management Services Group, Inc. dba Global Technical Systems (GTS), Virginia Beach, VA; ManTech Advanced Systems International Inc., Herndon, VA; MaXentric Technologies, LLC, Fort Lee, NJ; McAfee Public Sector, LLC, Columbia, MD; Mercom Incorporated (DBA Mercom Corporation), Pawleys Island, SC; Merlin International Inc., Tysons, VA; MetroStar Systems, Inc., Reston, VA; Micro USA Inc., Poway, CA; MicroStrategy Incorporated, Tysons Corner, VA; Motorola Solutions Inc., Chicago, IL; NAG, LLC dba NAG Marine, Norfolk, VA; Navatek LLC, Honolulu, HI; NCS Technologies, Inc., Gainesville, VA; NetApp US Public Sector, Vienna, VA; Netizen Corporation, Allentown, PA; Northrop Grumman Systems Corporation, McLean, VA; NTT DATA Federal Services, Inc., Herndon, VA; NuWave Solutions, McLean, VA; Oceus Networks Inc., Reston, VA; ODME Solutions, LLC, San Diego, CA; Okta Inc., San Francisco, CA; Pacific Star Communications Inc., Portland, OR; Pegasystems Inc., Cambridge, MA; PeopleTec Inc., Huntsville, AL; Perspecta Enterprise, Herndon, VA; Perspecta Inc., Chantilly, VA; Perspecta Labs, Basking Ridge, NJ; Phacil Inc., Arlington, VA; Planck Aerosystems Inc., San Diego, CA; Poplicus Inc. DBA Govini, Arlington, VA; Praescient Analytics LLC, Alexandria, VA; Presidio Networked Solutions LLC, Fulton, MD; PreTalen, Ltd., Beavercreek, OH; Progeny Systems Corporation, Manassas, VA; ProModel Corporation, Allentown, PA; Qlik Technologies Inc., King of Prussia, PA; QRC LLC dba QRC Technologies, Fredericksburg, VA; Quality Technology Incorporated (QuTech), Lanham, MD; Quark Security Inc., Columbia, MD; Quest Government Services Inc. dba CenturyLink QGS, Arlington, VA; Radiant Logic Inc., Sterling, VA; RavenTek Solution Partners LLC, Herndon, VA; Raytheon Company, Portsmouth, RI; Realization Technologies, Inc., Sunnyvale, CA; Redhorse Corporation, San Diego, CA; Resource Management Concepts, Inc., Lexington Park, MD; Second Front Systems, Inc., Arlington, VA; RunSafe Security Inc., McLean, VA; SailPoint Technologies Inc., Austin, TX; Sealing Technologies Inc., Columbia, MD; Sechan Electronics Inc., Lititz, PA; Sev1Tech Inc., Woodbridge, VA; Shipcom Federal Solutions, Arlington, VA; Spectare Systems Inc., Pennington, NJ; Spinvi Consulting LLC, Alexandria, VA; Stottler Henke Associates Inc., San Mateo, CA; Subsystem Technologies Inc., Arlington, VA; Syneren Technologies Corporation, Arlington, VA; Systems Engineering Associates Corporation (SEA CORP), Middletown, RI; Systems Technology Forum Ltd., Fredericksburg, VA; Telecommunication Solutions Group Inc., Raleigh, NC; The Arcanum Group Inc., Englewood, CO; The Charles Stark Draper Laboratory Inc., Cambridge, MA; The Design Knowledge Company (TDKC), Fairborn, OH; The Pennsylvania State University, University Park, PA; ThoughtSpot, Inc., Palo Alto, CA; ThunderCat Technology, LLC, Reston, VA; Totus Ventures, LLC dba Totus Imaging, Summerville, SC; TQI Solutions Inc., Norfolk, VA; TrustComm Inc., Stafford, VA; Ultramain Systems Inc., Albuquerque, NM; Verizon Business Network Services Inc., Ashburn, VA; Viasat Inc., Carlsbad, CA; Vickers & Nolan Enterprises, LLC, Stafford, VA; Vsolvit LLC, Ventura, CA; VT Milcom Inc., Virginia Beach, VA; Welkins, LLC, Downers Grove, IL; and WGS Systems, LLC, Frederick, MD, have been added as parties to this venture.

Also, BioRankings, St. Louis, MO; Engineering Science Analysis Corp., Tempe, AZ; PEMCCO Inc., Virginia Beach, VA; SIFT LLC, Minneapolis, MN; and UtopiaCompression Corporation, Los Angeles, CA, have withdrawn as parties to this venture.

No other changes have been made in either the membership or planned activity of the group research project. Membership in this group research project remains open, and IWRP intends to file additional written notifications disclosing all changes in membership.

On October 15, 2018, IWRP filed its original notification pursuant to Section 6(a) of the Act. The Department of Justice published a notice in the Federal Register pursuant to Section 6(b) of the Act on October 23, 2018 (83 FR 53499).

The last notification was filed with the Department on January 28, 2019. A notice was published in the Federal Register pursuant to Section 6(b) of the Act on February 15, 2019 (84 FR 4536).

Suzanne Morris,
Chief, Premerger and Division Statistics Unit Antitrust Division.

[FR Doc. 2019-16428 Filed 7-31-19; 8:45 am]

BILLING CODE 4410-11-P